DEPARTMENT OF DEFENSE

Department of the Army

[Docket ID USA-2013-0013]

Proposed Collection; Comment Request

AGENCY: Department of Defense/Department of the Army/U.S. Army Training and Doctrine Command (TRADOC), DoD.

ACTION: Notice.

SUMMARY: In compliance with the Paperwork Reduction Act of 1995, the Office of the Assistant Secretary of Defense for the Department of the Army announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 8, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Headquarters, U.S. Army Training and Doctrine Command, Learning Integration, Institute for NCO Professional Development (ATCG-NCI), ATTN: Jeffery J. Colimon, 950 Jefferson Avenue, Fort Eustis, Virginia 23604-5702.

SUPPLEMENTARY INFORMATION: Title; Associated Form; and OMB Number: Sponsorship Program Counseling and Information Sheet; DA Form 5434; OMB Control Number 0702-TBD.

Needs and Uses: The information collection requirement is necessary to obtain and retain sponsorship program entitlements, and provide information to gaining battalion or activity of new members.

Affected Public: Individuals or Households; Soldiers and Department of the Army Civilians and their Family Members.

Annual Burden Hours: 28,889.

Number of Respondents: 173,338.

Responses per Respondent: 1.

Annual Responses: 173,338.

Average Burden per Response: 10 minutes.

Frequency: On occasion.

Respondents are DA Civilian employees and Soldiers. Departing Soldiers or DA Civilian employees complete the DA Form 5434 during initial reassignment interview or are interviewed by a DA Civilian employee following selection notification and acceptance of a position. The automation of the collection action into the Army Career Tracker (ACT) will help commanders with their basic responsibility to assist Soldiers, civilian employees, and families successfully relocate in and out of their commands. The form will be hosted into the ACT system to facilitate the execution of the Total Army Sponsorship Program (TASP).

Dated: July 6, 2015.
Aaron Siegel,
Alternate OSD Federal Register, Liaison Officer, Department of Defense.

[FR Doc. 2015-16855 Filed 7-9-15; 8:45 am]

BILLING CODE 5001-06-P